DEPARTMENT OF ENERGY

Federal Energy Regulatory Commission

Combined Notice of Filings #1

Take notice that the Commission received the following exempt wholesale generator filings:

Docket Numbers: EG23-49-000.

Applicants: Diablo Winds, LLC.

Description: Diablo Winds, LLC submits Notice of Self-Recertification of Exempt Wholesale Generator Status.

Filed Date: 12/23/22.

Accession Number: 20221223-5113.

Comment Date: 5 p.m. ET 1/13/23.

Take notice that the Commission received the following Complaints and Compliance filings in EL Dockets:

Docket Numbers: EL23-19-000.

Applicants: PJM Interconnection, L.L.C.

Description: ISO/RTO § 206 Filing: LDA Reliability Requirement Complaint, Extended 28-day Comment Period to be effective 12/24/2022.

Filed Date: 12/23/22.

Accession Number: 20221223-5171.

Comment Date: 5 p.m. ET 1/20/23.

Take notice that the Commission received the following electric rate filings:

Docket Numbers: ER10-1728-015.

Applicants: The Dayton Power and Light Company.

Description: Triennial Market Power Analysis for Northeast Region of The Dayton Power and Light Company.

Filed Date: 12/23/22.

Accession Number: 20221223-5114.

Comment Date: 5 p.m. ET 2/21/23.

Docket Numbers: ER16-2520-004; ER17-318-004; ER19-8-004; ER19-119-004; ER19-2476-004; ER20-1799-003; ER20-1800-003; ER20-1801-004.

Applicants: Techren Solar V LLC, Techren Solar IV LLC, Techren Solar III LLC, Techren Solar II LLC, Techren Solar I LLC, Sweetwater Solar, LLC, Three Peaks Power, LLC, Grand View PV Solar Two LLC.

Description: Triennial Market Power Analysis for Northwest Region of Techren Solar I LLC, et al.

Filed Date: 12/22/22.

Accession Number: 20221222-5329.

Comment Date: 5 p.m. ET 2/20/23.

Docket Numbers: ER18-1182-004.

Applicants: System Energy Resources, Inc.

Description: Compliance filing: SERI MPSC Settlement Compliance (ER18-1182, et al.) to be effective 7/1/2022.

Filed Date: 12/23/22.

Accession Number: 20221223-5125.

Comment Date: 5 p.m. ET 1/13/23.

Docket Numbers: ER23-48-001.

Applicants: West Line Solar, LLC.

Description: Tariff Amendment: West Line Solar, LLC Response to Request for Information and MBR Tariff to be effective 10/15/2022.

Filed Date: 12/27/22.

Accession Number: 20221227-5117.

Comment Date: 5 p.m. ET 1/17/23.

Docket Numbers: ER23-435-003.

Applicants: System Energy Resources, Inc.

Description: Compliance filing: SERI Part Settlement Compliance (ER23-435 and EL2-72) to be effective 10/1/2022.

Filed Date: 12/23/22.

Accession Number: 20221223-5128.

Comment Date: 5 p.m. ET 1/13/23.

Docket Numbers: ER23-702-001.

Applicants: Tri-State Generation and Transmission Association, Inc.

Description: Tariff Amendment: Errata to Replace Transmittal Letter in Docket No. ER23-703-000 to be effective 2/21/2023.

Filed Date: 12/23/22.

Accession Number: 20221223-5000.

Comment Date: 5 p.m. ET 1/13/23.

Docket Numbers: ER23-729-000.

Applicants: PJM Interconnection, L.L.C.

Description: § 205(d) Rate Filing: LDA Reliability Requirement; Extended 28-day Comment Period to be effective 12/24/2022.

Filed Date: 12/23/22.

Accession Number: 20221223-5161.

Comment Date: 5 p.m. ET 1/20/23.

Docket Numbers: ER23-730-000.

Applicants: PJM Interconnection, L.L.C.

Description: § 205(d) Rate Filing: Correction to eTariff Metadata for SA No. 6258 Filed in Docket No. ER22-510-000 to be effective 11/1/2021.

Filed Date: 12/27/22.

Accession Number: 20221227-5089.

Comment Date: 5 p.m. ET 1/17/23.

Take notice that the Commission received the following qualifying facility filings:

Docket Numbers: QF23-168-000.

Applicants: GL Dairy Biogas, LLC.

Description: Refund Report of GL Dairy Biogas, LLC.

Filed Date: 12/7/22.

Accession Number: 20221207-5182.

Comment Date: 5 p.m. ET 1/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2022.
Kimberly D. Bose,
Secretary.

[FR Doc. 2022-28511 Filed 12-30-22; 8:45 am]

BILLING CODE 6717-01-P